DEPARTMENT OF COMMERCE

Foreign-Trade Zones Board

[Docket 53-2008]

Foreign-Trade Zone 242 - Boundary County, Idaho, Application for Subzone, Hoku Materials, Inc., Cancellation of Public Hearing

The public hearing scheduled for January 8, 2009, on the application for subzone status at the Hoku Materials, Inc. (Hoku), facility in Pocatello, Idaho (73 FR 59597, 10/9/08) has been cancelled. The party which had requested the hearing, Globe Metallurgical Inc. (Globe), submitted a letter to the Foreign-Trade Zones Board on January 2, 2009, withdrawing its request as a result of Hoku's December 31, 2008, amendment of its application in which Hoku indicated that it would not admit silicon metal subject to antidumping or countervailing duty orders into the proposed subzone facility and would accept an FTZ Board Order condition restricting such admission. Additional information is available on the FTZ Board web page via www.trade.gov/ftz.

As indicated previously, the comment period for this case is open through January 23, 2009. Rebuttal comments may be submitted during the subsequent 15-day period, until February 9, 2009. For further information, contact Diane Finver at Diane_Finver@ita.doc.gov or (202) 482-1367.

Dated: January 5, 2009.
Andrew McGilvray,
Executive Secretary.

[FR Doc. E9-123 Filed 1-5-09; 4:15 pm]

BILLING CODE 3510-DS-S